FEDERAL COMMUNICATIONS COMMISSION

[AU Docket No. 14-252; DA 15-1252]

Instructions for FCC Form 177 Application To Participate in the Reverse Auction (Auction 1001)

AGENCY: Federal Communications Commission.

ACTION: Notice.

SUMMARY: This document provides information on and filing instructions for completing FCC Form 177, the application for licensees of commercial and noncommercial educational full power and Class A television stations to participate in the reverse auction (Auction 1001).

DATES: Reverse Auction FCC Form 177 filing window opens 12 noon Eastern Time (ET) on December 8, 2015, and closes 6:00 p.m. ET on January 12, 2016.

FOR FURTHER INFORMATION CONTACT: Wireless Telecommunications Bureau, Auctions and Spectrum Access Division: for general reverse auction questions: Erin Griffith or Kathryn Hinton at (202) 418-0660.

SUPPLEMENTARY INFORMATION: This is a summary of the Reverse Auction 1001 FCC Form 177 Instructions Public Notice (Reverse Auction 1001 FCC Form 177 Instructions PN), AU Docket No. 14-252, DA 15-1252, released on November 19, 2015. The complete text of the Reverse Auction 1001 FCC Form 177 Instructions PN, including all attachments is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/. Alternative formats are available to persons with disabilities by sending an email to FCC504@fcc.gov or by calling the Consumer & Governmental Affairs Bureau at (202) 418-0530 (voice), (202) 418-0432 (TTY).

I. General Information

1. The Reverse Auction 1001 FCC Form 177 Instructions PN provides the filing instructions for the electronic FCC Form 177, the application for licensees of commercial and noncommercial educational full power and Class A television stations (eligible broadcast licensees) to participate in the reverse auction (Auction 1001). Separate attachments to the Reverse Auction 1001 FCC Form 177 Instructions PN provide the step-by-step filing instructions and templates for the certification by prospective channel sharer(s) that a reverse auction applicant-sharee must provide when submitting a channel sharing agreement in an application.

2. When filling out an FCC Form 177, a reverse auction applicant should follow the instructions in Attachments to the Reverse Auction FCC Form 177 Instructions PN along with the guidance provided in the Auction 1000 Application Procedures PN, 80 FR 66429, October 29, 2015. Each prospective applicant should also reference other public notices and/or decisions that have been issued in this proceeding, any future public notices and/or decisions that may be issued in this proceeding, and any other relevant public notices and/or decisions issued by the Commission in other proceedings that may relate to the incentive auction. Additional guidance, data, and information related to the broadcast incentive auction is available on the Auction 1000 Web site (http://www.fcc.gov/auctions/1000). A pre-auction process tutorial for the reverse auction was made available on the Auction 1001 Web site (http://www.fcc.gov/auctions/1001) on November 20, 2015, and the reverse auction application process workshop will be held on December 8, 2015.

Federal Communications Commission.
William Huber,
Associate Chief, Auctions and Spectrum Access Division, WTB.

[FR Doc. 2015-30298 Filed 11-25-15; 8:45 am]

BILLING CODE 6712-01-P